DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary, Office of Civil Rights (OCR).

Title: Reasonable Accommodation for Employees and Applicants with Disabilities.

Form Number(s): CD-575.

OMB Approval Number: 0690-0022.

Type of Request: Regular submission.

Burden Hours: 17.

Number of Respondents: 100.

Average Hours per Response: 10 minutes.

Needs and Uses: Under the Rehabilitation Act of 1973, as amended, Federal agencies must provide reasonable accommodation (such as an interpreter, reader, assistive technology, etc.) to qualified applicants and employees with disabilities. The information collected will ensure that reasonable accommodation requests are processed in a fair, timely, and equitable manner.

Affected Public: Federal government, and individual or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7258 or via the Internet at David_Rostker@omb.eop.gov.

Dated: May 1, 2007.
Gwellnar Banks,
Management Analyst, Office of the Chief Information Officer.

[FR Doc. E7-8628 Filed 5-4-07; 8:45 am]

BILLING CODE 3510-BP-P